DEPARTMENT OF HEALTH AND HUMAN SERVICES

National Institutes of Health

Division of Program Coordination, Planning, and Strategic Initiatives, Office of the Director, National Institutes of Health; Notice of Meeting

Pursuant to section 10(a) of the Federal Advisory Committee Act, as amended (5 U.S.C. App.), notice is hereby given of a conference call meeting of the Council of Councils.

The meeting will be open to the public through teleconference at the number listed below.

Name of Committee: Council of Councils.

Date: July 1, 2010.

Time: 3 p.m. to 6:15 p.m.

Agenda: Among the topics proposed for discussion are concept review of the following proposed FY 2011 Common Fund initiatives: (1) NIH-HMO Research Network Collaboratory; (2) Health Economics Research for Health Care Reform; (3) NIH Director's Independent Fellows Program; and (4) Research in Support of the Workforce.

Toll-free dial-in number (U.S. and Canada): 866-695-1528. Conference code: 7626802625.

Place: National Institutes of Health, Building 1, Room 260, 1 Center Drive, Bethesda, MD 20892, (Telephone Conference Call)

Contact Person: Robin Kawazoe, Executive Secretary, Council of Councils and Deputy Director, Division of Program Coordination, Planning, and Strategic Initiatives, Office of the Director, National Institutes of Health, Building 1, Room 260, 1 Center Drive, Bethesda, MD 20892, kawazoer@mail.nih.gov, (301) 402-9852.

This meeting is being published less than 15 days prior to the meeting due to scheduling conflicts of Members.

Information is also available on the Council of Council's home page: http://dpcpsi.nih.gov/council/, where an agenda and proposals to be discussed will be posted before the meeting date.

Any interested person may file written comments with the committee by forwarding the statement to the Contact Person listed on this notice. The statement should include the name, address, telephone number and when applicable, the business or professional affiliation of the interested person.

Dated: June 15, 2010.
Anna P. Snouffer,
Deputy Director, Office of Federal Advisory Committee Policy.

[FR Doc. 2010-14973 Filed 6-18-10; 8:45 am]

BILLING CODE 4140-01-P